DEPARTMENT OF TRANSPORTATION

Federal Transit Administration

[FTA Docket No. 2001-9007]

Agency Information Collection Activity Under OMB Review

AGENCY: Federal Transit Administration, DOT.

ACTION: Notice of request for comments.

SUMMARY: In accordance with the Paperwork Reduction Act of 1995 (44 U.S.C. 3501 et seq.), this notice announces that the Information Collection Requests (ICRs) abstracted below have been forwarded to the Office of Management and Budget (OMB) for extension of the currently approved information collections. The Federal Register Notice with a 60-day comment period soliciting comments was published on December 13, 2000.

DATES: Comments must be submitted before April 5, 2001. A comment to OMB is most effective if OMB receives it within 30 days of publication.

FOR FURTHER INFORMATION CONTACT: Sylvia L. Barney-Marion, Office of Administration, Office of Management Planning, (2020 366-6680.

SUPPLEMENTARY INFORMATION: Title: 49 U.S.C. Section 5310—Capital Assistance Program for Elderly Persons and Persons with Disabilities and Section 5311—Nonurbanized Area Formula Program (OMB Number 2132-0500).

Abstract: The Capital Assistance Program for Elderly Persons and Persons with Disabilities provides financial assistance for the specialized transportation service needs of elderly persons and persons with disabilities. The program is administered by the States and may be used in all areas (urbanized, small urban, and rural). The Nonurbanized Area Formula Program provides financial assistance for the provision of public transportation services in nonurbanized areas and is also administered by the States. FTA is authorized to review applications for federal financial assistance to determine eligibility and compliance with statutory and administrative requirements by 49 U.S.C. 5310 and 5311. Information collected during the application stage includes the project budget, which identifies funds requested for project implementation; a program of projects, which identifies subrecipients to be funded, the amount of funding that each will receive, and a description of the projects to be funded; the project implementation plan; a list of annual certifications and assurances; and public hearings notice, certification and transcript. The applications must contain sufficient information to enable FTA to make the findings required by law to enforce the program requirements. Information collected during the project management stage includes an annual financial report, an annual program status report, and pre-award and post-delivery audits. The annual financial report and program status report provide a basis for monitoring approved projects to ensure timely and appropriate expenditure of federal funds by grant recipients.

Estimated Total Annual Burden: 6,540 hours.

Title: Americans with Disabilities Act (OMB Number 2132-0555).

Abstract: On July 26, 1990, the President signed into law civil rights legislation entitled, “The Americans with Disabilities Act of 1990” (ADA) (Pub. L. 101-336). It contains sweeping changes for individuals with disabilities in every major area of American life. One key area of the legislation addresses transportation services provided by public and private entities. Some of the requirements under the ADA are: (1) No transportation entity shall discriminate against an individual with a disability in connection with the provision of transportation service; (2) All new vehicles purchased by public and private entities after August 25, 1990, must be readily accessible to and usable by persons with disabilities, including individuals who use wheelchairs; (3) Public entities that provide fixed route transit must provide complementary paratransit service for persons with disabilities, who are unable to use the fixed route system, that is comparable to the level of service provided to individuals without disabilities; and (4) Public entities operating light, rapid or commuter rail systems must designate key stations which were to be made accessible by July 26, 1993, unless the operator received a statutory time extension.

If FTA reasonably believes that an entity may not be in compliance, FTA may require periodic reports on a quarterly or annual basis. The information collected provides FTA with a basis for monitoring compliance. In addition, public entities, including recipients of FTA funds, are required to provide information during triennial reviews, compliant investigations, resolutions of complaints, and compliance reviews.

Estimated Total Annual Burden: 40,000 hours.

Title: Pre-Award and Post Delivery Review Requirements (OMB Number 2132-0544).

Abstract: Under the Federal Transit Laws, at 49 U.S.C. 5323(l), grantees must certify that pre-award and post-delivery reviews will be conducted when using FTA funds to purchase revenue service vehicles. FTA regulation 49 CFR Part 663 implements this law by specifying the actual certificates that must be submitted by each bidder to assure compliance with the Buy America, contract specification, and vehicle safety requirements for rolling stock. The information collected on the certification forms is necessary for FTA grantees to meet the requirements of 49 U.S.C. 5323(l).

Estimated Total Annual Burden: 3,024 hours.

ADDRESSES: All written comments must refer to the docket number that appears at the top of this document and be submitted to the Office of Information and Regulatory Affairs, Office of Management and Budget, 725 17th Street, NW., Washington, DC 20503, Attention: FTA Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued: February 28, 2001.
Dorrie Y. Aldrich,
Associate Administrator for Administration.

[FR Doc. 01-5292 Filed 3-5-01; 8:45 am]

BILLING CODE 4910-57-M